DEPARTMENT OF TRANSPORTATION

Federal Aviation Administration

14 CFR Part 39

[Docket No. FAA-2005-22898; Directorate Identifier 2005-NE-10-AD]

RIN 2120-AA64

Airworthiness Directives; McCauley Propeller Systems Models 3A32C406/82NDB-X and D3A32C409/82NDB-X Propellers

AGENCY: Federal Aviation Administration (FAA), DOT.

ACTION: Notice of proposed rulemaking (NPRM).

SUMMARY: The FAA proposes to adopt a new airworthiness directive (AD) for McCauley Propeller Systems models 3A32C406/82NDB-X and D3A32C409/82NDB-X propellers, installed on Teledyne Continental Motors (TCM) IO-520, TSIO-520, or IO-550 reciprocating engines. These propellers are herein referred to as C406 and C409 propellers, respectively. This proposed AD would require adding an operational revolutions per minute (rpm) restriction on the C406 and C409 propellers, and installing an rpm restriction placard in the cockpit. This proposed AD would also add a 10,000-hour total time-in-service (TIS) life limit for these propellers. This proposed AD would also remove from service any propeller that has 10,000 hours or more total TIS, or that has an unknown total TIS. Also, this proposed AD would require initial and repetitive propeller blade inspections for damage, and repair if necessary. This proposed AD results from testing by the manufacturer that identified stress conditions that affect the fatigue life and damage tolerance of C406 and C409 propellers, when installed on TCM IO-520, TSIO-520, or IO-550 reciprocating engines. We are proposing this AD to prevent blade or hub failure that could result in separation of a propeller blade and loss of control of the airplane.

DATES: We must receive any comments on this proposed AD by January 17, 2006.

ADDRESSES: Use one of the following addresses to comment on this proposed AD.

• DOT Docket web site: Go to http://dms.dot.gov and follow the instructions for sending your comments electronically.

• Government-wide rulemaking web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

Contact McCauley Propeller Systems, P.O. Box 7704, Wichita, KS 67277-7704; telephone (800) 621-7767, for the service information identified in this AD.

You may examine the comments on this proposed AD in the AD docket on the Internet at http://dms.dot.gov.

FOR FURTHER INFORMATION CONTACT: Timothy Smyth, Aerospace Engineer, Chicago Aircraft Certification Office, FAA, Small Airplane Directorate, 2300 East Devon Avenue, Des Plaines, IL 60018; telephone: (847) 294-7132; fax: (847) 294-7834.

SUPPLEMENTARY INFORMATION:

Comments Invited

We invite you to send us any written relevant data, views, or arguments regarding this proposal. Send your comments to an address listed under ADDRESSES. Include “Docket No. FAA-2005-22898; Directorate Identifier 2005-NE-10-AD” in the subject line of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of the DMS web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the proposal, any comments received and, any final disposition in person at the DMS Docket Offices between 9 a.m. and 5 p.m., Monday through Friday, except Federal holidays. The Docket Office (telephone (800) 647-5227) is located on the plaza level of the Department of Transportation Nassif Building at the street address stated in ADDRESSES. Comments will be available in the AD docket shortly after the DMS receives them.

Discussion

McCauley Propeller Systems recently conducted tests to measure vibratory stress on C406 and C409 propellers. The tests identified a high stress condition that reduces the fatigue life and damage tolerance of C406 and C409 propellers when installed on TCM IO-520, TSIO-520, or IO-550 reciprocating engines. This condition, if not corrected, could result in blade or hub failure that could result in separation of a propeller blade and loss of control of the airplane.

Relevant Service Information

We reviewed and approved the technical contents of McCauley Propeller Systems Alert Service Bulletin (ASB) No. ASB248, dated January 17, 2005, that does the following:

• Adds an rpm restriction that states continuous propeller operation between 2,350 rpm and 2,450 rpm at 24 inches Hg and higher manifold pressure is prohibited.

• Installs an rpm restriction placard in the cockpit.

• Adds a 10,000-hour total TIS life limit for C406 and C409 propellers.

• Removes from service any propeller that has 10,000 hours or more total TIS, or that has an unknown total TIS.

• Requires initial and repetitive propeller blade inspections for damage, and repair if necessary.

FAA's Determination and Requirements of the Proposed AD

We evaluated all pertinent information and identified an unsafe condition that is likely to exist or develop on other C406 and C409 propellers of this same type design. We are proposing this AD, which would require:

• Within 10 hours TIS after the effective date of the proposed AD, installing an rpm restriction placard on the pilot's console in front of the pilot, that states that continuous propeller operation between 2,350 and 2,450 rpm at 24 inches Hg and higher manifold pressure is prohibited.

• Adding a 10,000-hour total TIS propeller life limit.

• Within 50 hours TIS after the effective date of the proposed AD, removing from service any propeller that has 10,000 hours or more total TIS, or that has an unknown total TIS.

• Initially inspecting propeller blades for damage within 100 hours TIS after the effective date of the proposed AD, and repairing if necessary.

• Thereafter, repetitively inspecting propeller blades for damage every 100 hours TIS or next annual inspection, whichever occurs first.

The proposed AD would require you to use the service information described previously to perform these actions.

Costs of Compliance

About 2,350 C406 and C409 propellers installed on airplanes of U.S. registry would be affected by this proposed AD. We also estimate it would take about 3 work hours per propeller to perform the proposed inspections and repairs, and each propeller would have three inspections per year. We also estimate it would take about 0.5 work hour to install the proposed cockpit placard, and about 950 airplanes would require the placard. The average labor rate is $65 per work hour. A replacement propeller blade would cost about $10,500. We estimate 500 propellers in the fleet (or about 21%) would require parts replacement. Based on these figures, we estimate the total cost of the proposed AD to U.S. operators to be $2,585,500.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary at the address listed under ADDRESSES.

List of Subjects in 14 CFR Part 39

Air transportation, Aircraft, Aviation safety, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

McCauley Propeller Systems: Docket No. FAA-2005-22898; Directorate Identifier 2005-NE-10-AD.

Comments Due Date

(a) The Federal Aviation Administration (FAA) must receive comments on this airworthiness directive (AD) action by January 17, 2006.

Affected ADs

(b) None.

Applicability

(c) This AD applies to McCauley Propeller Systems models 3A32C406/82NDB-X and D3A32C409/82NDB-X propellers, herein referred to as C406 and C409 propellers, respectively. These propellers are installed on, but not limited to, the airplanes in the following Table 1:

Table 1.—Airplanes That Propellers Are Installed on, But Not Limited to:
Airplane models: | With engine model:
Beech:
A35, B35, C35, D35, E35, F35, G35, H35, J35, K35, M35, N35, P35, S35, V35, V35A, V35B, 35-33, 35-33A, 35-C33, 35-C33A, E33, E33A, E33C, F33, F33A, F33C, 36, A36, A45, and D45 | Teledyne Continental Motors (TCM) IO-520 series and IO-550 series reciprocating engines.
Beech:
A36TC, B36TC, S35, V35A, V35B. | TCM TSIO-520 series reciprocating engines.
Navion:
A (L-17B, C), B, D, E, F, G, and H. | TCM IO-550 and TSIO-520 series reciprocating engines.

Unsafe Condition

(d) This AD results from testing by the manufacturer, that identified stress conditions that affect the fatigue life and damage tolerance of C406 and C409 propellers when installed on TCM IO-520, TSIO-520, or IO-550 reciprocating engines. We are issuing this AD to prevent blade or hub failure that could result in separation of a propeller blade and loss of control of the airplane.

Compliance

(e) You are responsible for having the actions required by this AD performed within the compliance times specified unless the actions have already been done.

Installation of Cockpit Placard for RPM Restriction

(f) Within 10 hours time-in-service (TIS) after the effective date of this AD, install a placard on the pilot's console in front of the pilot, that states, in ¼ inch-high or higher characters, “Continuous propeller operation between 2,350 rpm and 2,450 rpm at 24 inches Hg and higher manifold pressure is prohibited”.

Propellers With Unknown Total Hours TIS, or 10,000 or More Hours Total TIS on the Effective Date of This AD

(g) For propellers that the total TIS is unknown, or that have 10,000 or more hours total TIS on the effective date of this AD, remove the propeller from service within 50 hours TIS after the effective date of this AD.

Propellers With Fewer Than 10,000 Hours Total TIS on the Effective Date of This AD

(h) For propellers with fewer than 10,000 total hours TIS on the effective date of this AD, do the following:

(1) Perform an inspection of the propeller blades and repair if necessary, within 100 hours after the effective date of this AD, using paragraphs 2.B. through 2.F. of Accomplishment Instructions of McCauley ASB No. ASB248, dated January 17, 2005.

(2) At the next propeller overhaul or next major propeller disassembly, life-limit-stamp the letter “L” on the propeller hub and blades, using paragraph 3 of Accomplishment Instructions of McCauley Propeller Systems Alert Service Bulletin (ASB) No. ASB248, dated January 17, 2005.

(3) Thereafter, within every 100 hours TIS or at next annual inspection, whichever occurs first, inspect, and repair if necessary, the propeller blades using paragraphs 2.B. through 2.F. of Accomplishment Instructions of McCauley ASB No. ASB248, dated January 17, 2005.

(4) Remove the propeller from service at or before reaching the life limit of 10,000 hours total TIS.

Alternative Methods of Compliance

(i) The Manager, Chicago Aircraft Certification Office, has the authority to approve alternative methods of compliance for this AD if requested using the procedures found in 14 CFR 39.19.

Related Information

(j) None.

Issued in Burlington, Massachusetts, on November 7, 2005.
Peter A. White,
Acting Manager, Engine and Propeller Directorate, Aircraft Certification Service.

[FR Doc. 05-22712 Filed 11-15-05; 8:45 am]

BILLING CODE 4910-13-P